INTERNATIONAL TRADE COMMISSION

[Inv. No. 337-TA-1106]

Certain Toner Cartridges and Components Thereof; Institution of Investigation

AGENCY: U.S. International Trade Commission.

ACTION: Notice.

SUMMARY: Notice is hereby given that a complaint was filed with the U.S. International Trade Commission on February 28, 2018, under section 337 of the Tariff Act of 1930, as amended, on behalf of Canon Inc. of Japan; Canon U.S.A. Inc. of Melville, New York; and Canon Virginia, Inc. of Newport News, Virginia. The complaint alleges violations of section 337 based upon the importation into the United States, the sale for importation, and the sale within the United States after importation of certain toner cartridges and components thereof by reason of infringement of U.S. Patent No. 9,746,826 (“the '826 patent”); U.S. Patent No. 9,836,021 (“the '021 patent”); U.S. Patent No. 9,841,727 (“the '727 patent”); U.S. Patent No. 9,841,728 (“the '728 patent”); U.S. Patent No. 9,841,729 (“the '729 patent”); U.S. Patent No. 9,857,764 (“the '764 patent”); U.S. Patent No. 9,857,765 (“the '765 patent”); U.S. Patent No. 9,869,960 (“the '960 patent”); and U.S. Patent No. 9,874,846 (“the '846 patent”). The complaint further alleges that an industry in the United States exists as required by the applicable Federal Statute.

The complainants request that the Commission institute an investigation and, after the investigation, issue a general exclusion order, or in the alternative a limited exclusion order, and cease and desist orders.

ADDRESSES: The complaint, except for any confidential information contained therein, is available for inspection during official business hours (8:45 a.m. to 5:15 p.m.) in the Office of the Secretary, U.S. International Trade Commission, 500 E Street SW, Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov. The public record for this investigation may be viewed on the Commission's electronic docket (EDIS) at https://edis.usitc.gov.

FOR FURTHER INFORMATION CONTACT: Pathenia M. Proctor, The Office of Unfair Import Investigations, U.S. International Trade Commission, telephone (202) 205-2560.

SUPPLEMENTARY INFORMATION:

Authority: The authority for institution of this investigation is contained in section 337 of the Tariff Act of 1930, as amended, 19 U.S.C. 1337 and in section 210.10 of the Commission's Rules of Practice and Procedure, 19 CFR 210.10 (2017).

Scope of Investigation: Having considered the complaint, the U.S. International Trade Commission, on March 23, 2018, ordered that—

(1) Pursuant to subsection (b) of section 337 of the Tariff Act of 1930, as amended, an investigation be instituted to determine whether there is a violation of subsection (a)(1)(B) of section 337 in the importation into the United States, the sale for importation, or the sale within the United States after importation of certain toner cartridges and components thereof by reason of infringement of one or more of claims 1-4, 6, 7, and 9 of the '826 patent; claims 1, 2, 4, 5, 7-11, 13, 18, and 20 of the '021 patent; claims 1, 2, 4-7, 9-12, 15-17, 19-22, 24, 26, and 27 of the '727 patent; claims 1, 2, 4-7, 9-12, 15-17, 19-22, 24, and 26-28 of the '728 patent; claims 1-3, 6, 8-11, 14, 16-21, 24, and 26 of the '729 patent; claims 7-9 of the '764 patent; claims 1, 3, 4, 6, 13, 16, 17, and 19 of the '765 patent; claims 1-7 of the '960 patent; and claims 1-3 of the '846 patent, and whether an industry in the United States exists as required by subsection (a)(2) of section 337;

(2) For the purpose of the investigation so instituted, the following are hereby named as parties upon which this notice of investigation shall be served:

(a) The complainants are:

Canon Inc., 30-2, Shimomaruko 3-chome, Ohta-ku, Tokyo 146-8501, Japan

Canon U.S.A., Inc., One Canon Park, Melville, New York 11747

Canon Virginia, Inc., 12000 Canon Boulevard, Newport News, Virginia 23606

(b) The respondents are the following entities alleged to be in violation of section 337, and are the parties upon which the complaint is to be served:

Ninestar Corporation, No. 3883, Zhuhai Avenue, Xiangzhou District, Zhuhai Guangdong, China 519060

Ninestar Image Tech Limited, No. 3883, Zhuhai Avenue, Xiangzhou District, Zhuhai Guangdong, China 519060

Ninestar Technology Company, Ltd., 17950 East Ajax Circle, City of Industry, California 91748

Apex Microtech Ltd., 9/F Unit 18, New Commerce Centre, No. 19, On Sum Street, Shatin, N.T., Hong Kong

Static Control Components, Inc., 3010 Lee Avenue, Sanford, North Carolina 27332-6210

Aster Graphics, Inc., 540 South Melrose Street, Placentia, California 92870

Jiangxi Yibo E-tech Co., Ltd., No. 756 Guangfu Road, Xinyu Hi-Tech Industry Development Zone, Xinyu City, Jiangxi, China 338004

Aster Graphics Co., Ltd., No. A22-23, Bld. D1, Phase VIII, New Town, Agile Garden, Sanxiang, Zhongshan, Guangdong, China 528463

Print-Rite Holdings Ltd., Unit 8, 10/F, Block A, MP Industrial Centre, No. 18 Ka Yip Street, Chai Wan, Hong Kong

Print-Rite N.A., Inc., 341 Mason Road, La Vergne, Tennessee 37086

Union Technology Int'l (M.C.O.) Co. Ltd., 14H, Nam Kwong Building, 223-225 Avenida Dr. Rodrigo, Rodrigues, Macau

Print-Rite Unicorn Image Products Co. Ltd., No. 32 Pingbeiyi Road, Nanping Technology, Industry Park, Nanping Town, Xiangzhou District, Zhuhai, China 519060

Kingway Image Co., Ltd. d/b/a, Zhu Hai Kingway Image Co., Ltd., No. 1, Ping Dong Road 2, Building 1, 4th Floor, Nanping Industry Park, Zhuhai, China

Ourway Image Tech. Co., Ltd., No. 291 People's West Road, Xiangzhou, Zhuhai, China

Ourway Image Co., Ltd., Unit 403, 4/F, Ri Rong Edifice, No. 291 People's West Road, Xiangzhou, Zhuhai, China

Zhuhai Aowei Electronics Co., Ltd., Unit 403, 4/F, Ri Rong Edifice, No. 291 People's West Road, Xiangzhou, Zhuhai, China

Ourway US Inc., 17800 Castleton Street, Suite 412, City of Industry, California 91748

Acecom, Inc.—San Antonio d/b/a InkSell.com, 4212 Thousand Oaks Drive, San Antonio, Texas 78217

ACM Technologies, Inc., 2535 Research Drive, Corona, California 92882

Arlington Industries, Inc., 1616 S. Lakeside Drive, Waukegan, Illinois 60085

Bluedog Distribution Inc., 450 North Park Road, Suite 810, Hollywood, Florida 33021

Do It Wiser LLC d/b/a Image Toner, 4255 Trotters Way #8A, Alpharetta, Georgia 30004

EIS Office Solutions, Inc., 314 Garden Oaks Boulevard, Houston, Texas 77018-5502

eReplacements, LLC, 600 E. Dallas Road, Suite 200, Grapevine, Texas 76051

Frontier Imaging Inc., 1250 W Artesia Boulevard, Compton, California 90220

Garvey's Office Products, Inc., 7500 N. Caldwell Avenue, Niles, Illinois 60714-3808

Global Cartridges, 918 Chula Vista Ave., Suite #3, Burlingame, California 94010

GPC Trading Co., Limited d/b/a GPC Image, Room 1103, Hang Seng Mongkok Building, 677 Nathan Road, Kowloon, Hong Kong

Hong Kong BoZe Co., Limited d/b/a Greensky, Flat/Rm A 27/F, Billion Plaza 2, 10 Cheung Yee Street, Lai Chi Kok, KL Hong Kong

Master Print Supplies, Inc. d/b/a HQ Products, 802 Burlway Road, Burlingame, California 94010

i8 International, Inc. d/b/a Ink4Work.com, 19961 Harrison Avenue, City of Industry, California 91789

Ink Technologies Printer Supplies, LLC, 7600 McEwen Road, Dayton, Ohio 45459

LD Products, Inc., 3700 Cover Street, Long Beach, California 90808

Linkyo Corp. d/b/a SuperMediaStore.com, 629 South Sixth Avenue, La Puente, California 91746

CLT Computers, Inc. d/b/a Multiwave and MWave, 20153 Paseo Del Prado, Walnut, California 91789

Imaging Supplies Investors, LLC d/b/a, SuppliesOutlet.com, SuppliesWholesalers.com, and, OnlineTechStores.com, 5440 Reno Corporate Drive, Reno, Nevada 89511

Online Tech Stores, LLC d/b/a, SuppliesOutlet.com, SuppliesWholesalers.com, and OnlineTechStores.com, 190 Monroe Avenue, Suite 600, Grand Rapids, Michigan 49503-2628

Kuhlmann Enterprises, Inc. d/b/a Precision Roller, 2102 W. Quail Avenue, Suite 1, Phoenix, Arizona 85027

Print After Print, Inc. d/b/a OutOfToner.com, 2640 E. Rose Garden Lane, Phoenix, Arizona 85050

Fairland, LLC d/b/a ProPrint, 155 N. Riverview Drive, Suite 100, Anaheim Hills, California 92808

Reliable Imaging Computer Products, Inc., 9659 Balboa Boulevard, Northridge, California 91325

Apex Excel Limited d/b/a ShopAt247, 19223 Colima Road, Unit 943, Rowland Heights, California 91748

The Supplies Guys, LLC, 590 Centerville Road #388, Lancaster, Pennsylvania 17601

Billiontree Technology USA Inc. d/b/a Toner Kingdom, 19945 Harrison Avenue, City of Industry, California 91789

FTrade Inc. d/b/a ValueToner, 1324 Forest Avenue, Suite 406, Staten Island, New York 10302

V4INK, Inc., 2760 E Philadelphia Street, Ontario, California 91761

World Class Ink Supply, Inc., 47 Cooper Street, Rear Suite, Woodbury, New Jersey 08096

9010-8077 Quebec Inc. d/b/a Zeetoner, 6 Rue Finch, Dollard-Des-Ormeaux, Quebec, Canada H9A 3G9

Zinyaw LLC d/b/a TonerPirate.com and Supply District, 1321 Upland Drive #1359, Houston, Texas 77043

(c) The Office of Unfair Import Investigations, U.S. International Trade Commission, 500 E Street SW, Suite 401, Washington, DC 20436; and

(3) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: March 26, 2018.
Lisa R. Barton,
Secretary to the Commission.

[FR Doc. 2018-06378 Filed 3-28-18; 8:45 am]

BILLING CODE 7020-02-P